FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 40901 of the Shipping Act of 1984 (46 U.S.C. 40101). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

A A Shipping Incorporated (NVO & OFF), 11526 Harwin Drive, Houston, TX 77072, Officers: Barbara C. Mozie, President/Treasurer, (Qualifying Individual), Geraldine O. Ononiba, Vice President, Application Type: New NVO & OFF License.

ASF, Inc. (NVO & OFF), 3812 Springhill Avenue, Mobile, AL 36608, Officers: Thomas E. Heagle, Senior Vice President Operations, (Qualifying Individual), Samford T. Myers, Chairman, Application Type: QI Change.

B.R.A.L. Miami, Inc. (OFF), 7766 NW 46 Street, Miami, FL 33166, Officers: Amalia S. Freire, Secretary/Treasurer, (Qualifying Individual), Alvaro Cruz, President, Application Type: New OFF License.

Best Global Logistics USA, Inc dba Siam Intercargo Services (NVO & OFF), 2650 Dalemead Street, Torrance, CA 90505, Officers: Ratchanee Supbuatong, Vice President, (Qualifying Individual), Wing-Ham Chu, Director/President/Treasurer/CFO, Application Type: New NVO & OFF License.

CTL USA, Inc. (NVO), 729 66th Street, Brooklyn, NY 11220, Officers: Joy Fu, Secretary/Treasurer/CFO, (Qualifying Individual), Sin F. Chan, Director/President, Application Type: New NVO License.

Epic International Transport, LLC (NVO), 6048 Lido Lane, Long Beach, CA 90803, Officer: Charles Brennan, Member/Manager, (Qualifying Individual), Application Type: New NVO License.

Global Parcel System LLC (NVO & OFF), 8240 NW. 30th Terrace, Miami, FL 33122, Officer: Alejandro Alvarez, Member, (Qualifying Individual), Application Type: New NVO & OFF License.

Glovis America, Inc. (NVO & OFF), 17305 Von Karman Avenue, #200, Irvine, CA 92614, Officers: Sharon S. Choi, Vice President, (Qualifying Individual), Kyung Bae Kim, CEO, Application Type: QI Change.

JK International Inc. (NVO & OFF), 825 S. Graham Street, Memphis, TN 38111, Officers: Teresa Donaldson, Secretary, (Qualifying Individual), James Kim, President/CEO, Application Type: Trade Name Change.

Knight (USA), L.L.C. (NVO), 5 Wellington Court, Eastampton, NJ 08060, Officers: Louis Simone, Operating Manager, (Qualifying Individual), Jack Marcario, Member, Application Type: New NVO License.

Mohammad Bagegni dba Coastal Auto Exporters (OFF), 23 Balcom Road, Pelham, NH 03076, Officer: Mohammad A. Bagegni, Sole Proprietor, (Qualifying Individual), Application Type: New OFF License.

Nippon Concept America, LLC (OFF), 2203 Timberloch Place, Suite 218D, The Woodlands, TX 77380, Officers: Martine L. Plunkett, Manager, (Qualifying Individual), Bertus Penters, Manager, Application Type: New OFF License.

Panamerican Shipping Inc. (NVO & OFF), 710 Franklin Avenue, Brooklyn, NY 11238, Officers: Lamar Bailey, President, (Qualifying Individual), Cristine Bailey, Secretary/Vice President, Application Type: Add NVO Service.

Sinai Logistics LLC (NVO & OFF), 11419 NW. 112th Street, Medley, FL 33178, Officer: Louissana Dappo, Member, (Qualifying Individual), Application Type: New NVO & OFF License.

SR Logistics, Inc. (OFF), 2338 E. Anaheim Street, #203E, Long Beach, CA 90804, Officer: Richard R. Seng, President/Secretary/Treasurer, (Qualifying Individual), Application Type: New OFF License.

Status Baby Moving Corp. (NVO), 2400 W. Copans Road, Suite 9, Pompano Beach, FL 33069, Officers: Katrina Payne, Secretary, (Qualifying Individual), Armando Christovam, President/Director, Application Type: New NVO License.

Transglobal Logistics Inc (OFF), 100 Oceangate, #1200, Long Beach, CA 90802, Officers: Gope R. Vaswani, Secretary/Treasurer, (Qualifying Individual), Sanjay Chopra, Director/President, Application Type: QI Change & Business Structure Change.

Universal Shippers Group USA, LLC (NVO & OFF), 1077A Fred Drive, #A, Morrow, GA 30260, Officers: Alfred A.M. Khannu, Manager/Secretary, (Qualifying Individual), Kadiatu Khannu, President, Application Type: New NVO & OFF License.

US Project Management LLC (NVO & OFF), 6311 Auburn Terrace Ct., Spring, TX 77389, Officer: Won (Eric) Y. Kang, Member/Manager, (Qualifying Individual), Application Type: New NVO & OFF License.

West Indies Trade & Consulting, LLC (OFF), 5200 Dallas Highway, Suite 200 #301, Powder Springs, GA 30127, Officers: Mark Weimann, President, (Qualifying Individual), Brad P. Mangus, Member, Application Type: New OFF License.

Dated: June 29, 2012.
Karen V. Gregory,
Secretary.

[FR Doc. 2012-16473 Filed 7-3-12; 8:45 am]

BILLING CODE 6730-01-P